FEDERAL COMMUNICATIONS COMMISSION

47 CFR Part 73

[MB Docket No. 21-502; Report No. 3193; FRS ID 130512]

Petition for Reconsideration of Action in Rulemaking Proceeding; Correction

AGENCY: Federal Communications Commission.

ACTION: Petition for reconsideration; correction.

SUMMARY: The Federal Communications Commission (Commission) published a document in the Federal Register of March 3, 2023, regarding a Petition for Reconsideration (Petition) filed in the Commission's rulemaking proceeding. The document contained the incorrect deadline for filing replies to an opposition to the Petition. This document corrects the deadline for replies to an opposition to the Petition.

DATES: Oppositions to the Petition must be filed on or before March 20, 2023. Replies to an opposition must be filed on or before March 30, 2023.

ADDRESSES: Federal Communications Commission, 45 L Street NE, Washington, DC 20554.

FOR FURTHER INFORMATION CONTACT: Rolanda F. Smith, Media Bureau, (202) 418-2700.

Correction

In the Federal Register of March 3, 2023, in FR Doc. 128103, on page 13398, in the third column, and on page 13399, in the first column, correct the DATES section to read:

DATES: Oppositions to the Petition must be filed on or before March 20, 2023. Replies to an opposition must be filed on or before March 30, 2023.

Federal Communications Commission.

Marlene Dortch,
Secretary, Office of the Secretary.

[FR Doc. 2023-05403 Filed 3-16-23; 8:45 am]

BILLING CODE 6712-01-P